DEPARTMENT OF THE INTERIOR

National Park Service

Draft General Management Plan/Environmental Impact Statement, John Day Fossil Beds National Monument, Grant and Wheeler Counties, OR; Notice of Termination of the Environmental Impact Statement

SUMMARY: The National Park Service is terminating preparation of an Environmental Impact Statement (EIS) for the General Management Plan, John Day Fossil Beds, Oregon. A Notice of Intent to prepare an EIS for the John Day Fossil Beds National Monument General Management Plan was published in the Federal Register on September 24, 2004 (Vol. 69, No. 185, Pages 57362-63). Based in part on the minimal nature of public response to the Notice of Intent, the National Park Service has since determined that an Environmental Assessment rather than an EIS is the appropriate environmental documentation for this general management plan update.

SUPPLEMENTARY INFORMATION: This new general management plan (GMP) will update the overall direction for the national monument, setting broad management goals for managing the area over the next 15 to 20 years. As noted above, the GMP was originally scoped as an EIS. However, few public comments were received in the scoping process. No issues with the potential for controversial impacts were identified for the general management plan. The current GMP was approved in 1979.

In the general management planning process the NPS planning team developed four preliminary alternatives for the national monument, none of which would result in substantial changes in the operation and management of the area. The three “action” alternatives primarily focus on maintaining and protecting paleontological and other resources, and expanding interpretation and visitor opportunities where appropriate. The alternatives vary in their treatment of the Cant Ranch cultural landscape, the management of the Hancock mammal quarry, and the development of new trails. Preliminary analysis of the alternatives has revealed no major (nor significant) potential effects on the quality of the human environment, nor any potential for impairment of park resources and values. Most of the impacts from the alternatives are expected to be negligible to minor in magnitude, with the remainder being of a minor to moderate level.

For these reasons the NPS determined that the requisite conservation planning and environmental impact analysis necessary for updating the general management plan can appropriately be completed through preparation of an Environmental Assessment (EA). For further information about this determination or other aspects of the GMP process, please contact: James Hammett, Superintendent, John Day Fossil Beds National Monument, 32651 Highway 19, Kimberly, OR 97848 (telephone: (514) 987-2333; e-mail: JODA_Superintendent@nps.gov).

Decsion Process: The draft general management plan/EA is expected to be distributed for public comment in the fall/winter of 2007. The NPS will notify the public about release of the draft general management plan/EA by mail, local and regional media, Web site postings, and other means; all announcements will include information on where and how to obtain a copy of the EA, how to comment on the EA, and the length of the public comment period. Following due consideration of public comments and agency consults, at this time a decision is expected be made in the winter of 2008. The official responsible for the final decision on the GMP is the Regional Director; subsequently the responsible official for implementing the approved GMP is the Superintendent, John Day Fossil Beds National Monument.

Dated: January 26, 2007.
Jonathan B. Jarvis,
Director, Pacific West Region.

[FR Doc. E7-6451 Filed 4-5-07; 8:45 am]

BILLING CODE 4310-3J-P